DEPARTMENT OF LABOR

Employment and Training Administration

[TA-W-62,015]

KAC Holdings, D/B/A Kester, Des Plaines, IL; Notice of Termination of Investigation

Pursuant to Section 221 of the Trade Act of 1974, as amended, an investigation was initiated on August 21, 2007 in response to a petition filed by a State agency representative on behalf of workers of KAC Holdings, d/b/a Kester, Des Plaines, Illinois.

The petitioner has requested that the petition be withdrawn. Consequently, the investigation has been terminated.

Signed in Washington, DC, this 20th day of September 2007.
Linda G. Poole,
Certifying Officer, Division of Trade Adjustment Assistance.

[FR Doc. E7-19029 Filed 9-26-07; 8:45 am]

BILLING CODE 4510-FN-P